DEPARTMENT OF LABOR

Office of the Secretary

Submission for OMB Emergency Review: Comment Request

February 24, 2010.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by March 24, 2010. A copy of this ICR, with applicable supporting documentation, including a description of the likely respondents, proposed frequency of response, and estimated total burden may be obtained from the RegInfo.gov Web site at http://www.reginfo.gov/public/do/PRAMain or by contacting Darrin King at 202-693-4129 (this is not a toll-free number)/e-mail: DOL_PRA_PUBLIC@dol.gov. Interested parties are encouraged to send comments to the Office of Information and Regulatory Affairs, Attn: OMB Desk Officer for the Department of Labor—Employment and Training Administration (ETA), Office of Management and Budget, Room 10235, Washington, DC 20503, Telephone: 202-395-7316/Fax: 202-395-5806 (these are not toll-free numbers), E-mail: OIRA_submission@omb.eop.gov. Comments and questions about the ICR listed below should be received 5 business days prior to the requested OMB approval date.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employment and Training Administration.

Title of Collection: American Recovery and Reinvestment Act (ARRA) High Growth and Emerging Industries (HGEI) Grants.

OMB Control Number: Pending.

Affected Public: Private Sector (relevant grantees) and Individuals or households (program participants)

Total Estimated Number of Respondents: 262 grantees and 33,000 program participants.

Total Estimated Annual Burden Hours: 87,048.

Total Estimated Annual Cost Burden (excluding hourly wage costs): $0.

Description: The American Recovery and Reinvestment Act of 2009 (The Recovery Act) was signed into law by President Obama on February 17, 2009. Among other funding directed to the Department of Labor, the Recovery Act provides $750 million for a program of competitive grants for worker training and placement in high growth and emerging industries, the American Recovery and Reinvestment Act (ARRA) High Growth and Emerging Industries (HGEI) grants. It is critical to record the impact of these Recovery Act resources, current information on participants in these grants, and the services provided to them. Therefore, to obtain a more robust look at participants and services provided with Recovery Act resources, the Employment & Training Administration (ETA) proposes a new information collection set for ARRA HGEI grantees.

Why Are We Requesting Emergency Processing? This collection comprises a participant and performance reporting strategy that will provide a more robust view of the impact of the Recovery Act funds, providing greater information on levels of program participation, the characteristics of the participants served and the types of services provided through ARRA HGEI programs. The performance reporting requirements in this package align with outcome categories identified in the Solicitation for Grant Applications (SGAs) used to award these grants, SGA/DFA PY-08-17, SGA/DFA PY-08-18, SGA/DFA PY-08-19, SGA/DFA PY-08-20, SGA/DFA PY-08-21 and SGA/DFA PY-09-01. This data collection will provide ETA with more comprehensive information on the status of individual grants and individuals that receive services and find employment through these grants, and the data collection will enable ETA to provide more targeted technical assistance to support improvement of grantee outcomes. ETA will provide ARRA HGEI grantees with a data collection system that will support the collection of participant data for required reporting elements. ETA has already started awarding ARRA HGEI grants, and expects to award nearly all ARRA HGEI grants by February 2010, so the approval of this request is also necessary to allow ETA to provide an OMB approved reporting form quickly to ARRA HGEI grantees as their grant operations commence and to report performance accountability information immediately on the use of Recovery Act funds.

Darrin A. King,
Departmental Clearance Officer.

[FR Doc. 2010-4207 Filed 3-1-10; 8:45 am]

BILLING CODE 4510-FN-P